DEPARTMENT OF AGRICULTURE

Animal and Plant Health Inspection Service

7 CFR Part 301

[Docket No. 01-079-2]

Citrus Canker; Quarantined Areas

AGENCY: Animal and Plant Health Inspection Service, USDA.

ACTION: Final rule.

SUMMARY: We are amending the citrus canker regulations by removing a portion of the quarantined area in Manatee County, FL, from the list of quarantined areas. The regulations require that an area be free from citrus canker for a period of at least 2 years before it may be removed from the list of quarantined areas. Surveys have shown that a portion of the quarantined area in Manatee County, FL, has been free of citrus canker since February 1999. This action removes restrictions on the interstate movement of regulated articles from that portion of Manatee County, FL.

EFFECTIVE DATE: February 25, 2002.

FOR FURTHER INFORMATION CONTACT: Mr. Stephen Poe, Operations Officer, PPQ, APHIS, 4700 River Road Unit 134, Riverdale, MD 20737; (301) 734-8899.

SUPPLEMENTARY INFORMATION:

Background

The regulations to prevent the interstate spread of citrus canker are contained in 7 CFR 301.75-1 through 301.75-16 (referred to below as the regulations). The regulations restrict the interstate movement of regulated articles from and through areas quarantined because of citrus canker and provide for the designation of survey areas around quarantined areas. Survey areas undergo close monitoring by Animal and Plant Health Inspection Service (APHIS) and State inspectors for citrus canker and serve as buffer zones against the disease.

Under § 301.75-4(c) of the regulations, any State or portion of a State where an infestation is detected will be designated as a quarantined area and will retain that designation until the area has been free from citrus canker for 2 years. A 15-square-mile area in the northern part of the quarantined area in Manatee County, FL, has been free of citrus canker since February 1999, and has thus met the requirement for declaration of eradication.

On November 27, 2001, we published in the Federal Register (66 FR 59175-59176, Docket No. 01-079-1) a proposal to amend the regulations by removing that portion of the quarantined area in Manatee County, FL, from the list of quarantined areas.

We solicited comments concerning our proposal for 30 days ending December 27, 2001. We did not receive any comments. Therefore, for the reasons given in the proposed rule, we are adopting the proposed rule as a final rule, without change.

Effective Date

This is a substantive rule that relieves restrictions and, pursuant to the provisions of 5 U.S.C. 553, may be made effective less than 30 days after publication in the Federal Register. Immediate implementation of this rule is necessary to provide relief to those persons who are adversely affected by restrictions we no longer find warranted. Making this rule effective immediately will allow interested producers and others in the marketing chain to benefit during this year's shipping season. Therefore, the Administrator of the Animal and Plant Health Inspection Service has determined that this rule should be effective upon signature.

Executive Order 12866 and Regulatory Flexibility Act

This rule has been reviewed under Executive Order 12866. For this action, the Office of Management and Budget has waived its review under Executive Order 12866.

We are amending the citrus canker regulations by removing a portion of the quarantined area in Manatee County, FL, from the list of quarantined areas. The regulations require that an area be free from citrus canker for a period of at least 2 years before it is removed from the list of quarantined areas. Surveys have shown that a portion of the quarantined area in Manatee County, FL, has been free of citrus canker since February 1999. This action removes restrictions on the interstate movement of regulated articles from that portion of Manatee County, FL.

The area we are removing from quarantine represents only a small portion of the total production in Manatee County. The table below shows statistics for Manatee County after trees were removed to limit the spread of citrus canker.

| Boxes of citrus produced in 1999-2000 season | Total acres January 2000 | Total number of trees January 2000
All Round Oranges | 8,365,000 | 21,236 | 2,631,200
All Grapefruit | 422,000 | 1,197 | 111,900
Speciality Fruit | 279,000 | 821 | 98,300
All Citrus | 9,066,000 | 23,254 | 2,841,400

While producers in the area that is being removed from the list of quarantined areas should benefit from removal of movement restrictions, it is unlikely that the benefit will be big enough to measure statistically. This action will not impose any costs on producers or on government entities.

Most of the citrus producers in and around the quarantined area in Manatee County, FL, qualify as small entities under Small Business Administration (SBA) guidelines. The Regulatory Flexibility Act requires that the Agency specifically consider the economic effects associated with its rules on small entities. The SBA defines a firm engaged in agriculture as “small” if it has less than $750,000 in annual receipts.

Citrus producers in the area that is being removed from the list of quarantined areas will have greater choice of where to market their fruit. This should benefit producers by providing them with more alternatives. It is unlikely, however, that producer income or expenses will be affected in a measurable way.

It is difficult to quantify the benefits of removing an area from quarantine. While producers will have greater choice of where to market their citrus crops, most of the trees in the quarantined area have been destroyed. It is unlikely that a reduction in the quarantined area will have any measurable effect on producers or consumers.

Under these circumstances, the Administrator of the Animal and Plant Health Inspection Service has determined that this action will not have a significant economic impact on a substantial number of small entities.

Executive Order 12372

This program/activity is listed in the Catalog of Federal Domestic Assistance under No. 10.025 and is subject to Executive Order 12372, which requires intergovernmental consultation with State and local officials. (See 7 CFR part 3015, subpart V.)

Executive Order 12988

This final rule has been reviewed under Executive Order 12988, Civil Justice Reform. This rule: (1) Preempts all State and local laws and regulations that are inconsistent with this rule; (2) has no retroactive effect; and (3) does not require administrative proceedings before parties may file suit in court challenging this rule.

Paperwork Reduction Act

This final rule contains no new information collection or recordkeeping requirements under the Paperwork Reduction Act of 1995 (44 U.S.C. 3501 et seq.).

List of Subjects in 7 CFR Part 301

Agricultural commodities, Plant diseases and pests, Quarantine, Reporting and recordkeeping requirements, Transportation.

Accordingly, we are amending 7 CFR part 301 as follows:

PART 301—DOMESTIC QUARANTINE NOTICES

1. The authority citation for part 301 continues to read as follows:

Authority: 7 U.S.C. 166, 7711, 7712, 7714, 7731, 7735, 7751, 7752, 7753, and 7754; 7 CFR 2.22, 2.80, and 371.3.

Section 301.75-15 also issued under Sec. 204, Title II, Pub. L. 106-113, 113 Stat. 1501A-293; sections 301.75-15 and 301.75-16 also issued under Sec. 203, Title II, Pub. L. 106-224, 114 Stat. 400 (7 U.S.C. 1421 note).

2. In § 301.75-4, paragraph (a), in the entry for Manatee County, the second paragraph is revised to read as follows:

§ 301.75-4 Quarantined areas.

(a) * * *

Florida

* * * * *

Manatee County. * * *

That portion of the county bounded by a line drawn as follows: Beginning at the northwest corner of sec. 24, T. 33 S., R. 17 E.; then east along the northern boundary of sec. 24, T. 33. S., R. 17 E. (Bishop Harbor Road) until it becomes SR 683 (Moccasin Wallow Road); then east on SR 683 to the northeast boundary of sec. 22, T. 33 S., R. 18 E., then south along the eastern boundary of sec. 22, T. 33 S., R. 18 E. to 69th Street East; then east on 69th Street East to Erie Road; then south on Erie Road to U.S. Highway 301; then south on U.S. Highway 301 to Interstate 75; then south on Interstate 75 to the southern boundary of sec. 24, T. 35 S., R. 18 E.; then west along the southern boundaries of secs. 24, 23, and 22 to where the southern boundary of sec. 22 meets Whitfield Avenue; then west on Whitfield Avenue to U.S. Highway 301; then north on U.S. Highway 301 to SR 70; then west on SR 70 to U.S. Highway 41; then north on U.S. Highway 41 to where it becomes 14th Street West; then north on 14th Street West to 1st Avenue West; then east on 1st Avenue West to 9th Street West; then north on 9th Street West to the north bank of the Manatee River; then west along the north bank of the Manatee River to Terra Ceia Bay; then north along the western boundaries of secs. 25 and 24 to the point of the beginning.

* * * * *

Done in Washington, DC, this 25th day of February, 2002.
W. Ron DeHaven,
Acting Administrator, Animal and Plant Health Inspection Service.

[FR Doc. 02-4911 Filed 2-28-02; 8:45 am]

BILLING CODE 3410-34-U